DEPARTMENT OF HOUSING AND URBAN DEVELOPMENT

[Docket No. FR-4723-FA-13]

Announcement of Funding Awards for Fiscal Year 2002; Brownfields Economic Development Initiative

AGENCY: Office of the Assistant Secretary for Community Planning and Development, HUD.

ACTION: Announcement of funding awards.

SUMMARY: In accordance with section 102(a)(4)(C) of the Department of Housing and Urban Development Reform Act of 1989, this document notifies the public of funding awards for the Fiscal Year 2002 Brownfields Economic Development Initiative. The purpose of this document is to announce the names and addresses of the award winners and the amount of the awards to be used to stimulate economic development by local governments and private sector parties in brownfields.

FOR FURTHER INFORMATION CONTACT: Donald P. Mains, Deputy Assistant Secretary for Economic Development, U.S. Department of Housing and Urban Development, Room 7136, 451 Seventh Street, SW., Washington, DC 20410, telephone (202) 708-4091. To provide service for persons who are hearing- or speech-impaired, this number may be reached via TTY by dialing the Federal Information Relay Service on (800) 877-8399, or 202-708-1455. (Telephone numbers, other than the two “800” numbers, are not toll free.)

SUPPLEMENTARY INFORMATION: The Brownfields Economic Development Initiative is administered by the Office of Economic Development under the Assistant Secretary for Community Planning and Development. The Office of Economic Development administers HUD's ongoing grant programs to assist local governments, nonprofit organizations and the private sector in economic development efforts.

The Brownfields Economic Development Initiative (BEDI) was enacted in section 108(q) of the Housing and Community Development Act of 1974, as amended. Eligible applicants include units of general local government eligible for assistance under the Community Development Block Grant (CDBG) program, as well as urban counties that are eligible under the CDBG program. Each unit of general local government or CDBG-eligible urban county must use its BEDI award to enhance the security of a loan guaranteed by HUD under section 108 of the Housing and Community Development Act of 1974, as amended, for the same project, or to improve the viability of a project financed with the section 108-guaranteed loan. The Brownfields Economic Development Initiative provides each grantee up to $2,000,000 for the redevelopment of abandoned, idled or underutilized industrial or commercial facilities where expansion or redevelopment is complicated by real or perceived environmental contamination.

The Catalog of Federal Domestic Assistance number for this program is 14.246.

On March 26, 2002 (67 FR 14135) HUD published a Super Notice of Funding Availability (SuperNOFA) announcing the availability of $29,008,155 in FY 2002 funds for the Browonfields Economic Development Initiative. The Department reviewed, evaluated and scored the applications received based on the criteria in the SuperNOFA. As a result, HUD has funded the applications announced below, and in accordance with section 102(a)(4)(C) of the Department of Housing and Urban Development Reform Act of 1989 (103 Stat. 1987, U.S.C. 3545), the Department is publishing details concerning the recipients of funding awards, as set forth below.

List of Awardees for Grant Assistance Under the FY 2002 Brownfields Economic Development Initiative; Funding Competition, by Name, Address, Phone Number, Grant Amount

California

City of Anaheim, 200 S. Anaheim Boulevard, Anaheim, CA 92805, (714) 765-4306, $650,000.

City of Los Angles, 200 N. Spring Street, Los Angeles, CA 90012, (213) 978-0670, $2,000,000.

City of Richmond, 330 25th Street, Richmond, CA 94804, (510) 307-8140, $1,000,000.

City of Bakersfield, 1501 Truxton Avenue, Bakersfield, CA 93301, (661) 326-3765, $250,000.

City of Los Angeles, 215 W. 6th Street, 3rd Floor, Los Angeles, CA 90014, (213) 485-2952, $1,400,000.

City of San Jose, 801 N. First Street, San Jose, CA 95110, (408) 794-1056, $2,000,000.

City of Visalia, 707 West Acequia Avenue, Visalia, CA 93291, (559) 713-4511, $244,000.

Florida

City of Miami, 444 SW. 2 Avenue, Suite 1035, Miami, FL 33130, (305) 416-1414, $1,000,000.

City of Pompano Beach, 100 West Atlantic Boulevard, Pompano Beach, FL 33060, (954) 786-4083, $500,000.

Iowa

City of Waterloo, 715 Mulberry Street, Waterloo, IA 50703, (319) 291-4366, $2,000,000.

Illinois

City of Rockford, 425 E. State Street, Rockford, Il 61104, (815) 987-5694, $300,000.

Massachusetts

City of Worcester, 455 Main Street, Rm. 309, Worcester, MA 01608, $1,000,000.

Michigan

City of Flint, 1101 S. Saginaw Street, Flint, MI 48502, (810) 766-7436, $780,000.

Wayne County, Building L-13, 600 Randolph, Detroit, MI 48226, (313) 224-5250, $650,000.

New Mexico

City of Carlsbad, PO Box 1569, Carlsbad, NM 88220, (505) 887-1191, $775,000.

New York

City of New York, 100 Gold Street, Rm. 5-B2, New York, NY 10038, (212) 863-8060, $665,000.

City of Yonkers, 40 North Broadway, Yonkers, NY 10701, (914) 377-6619, $1,000,000.

Pennsylvania

Chester County, 2 North High Street, PO Box 2748, West Chester, PA 19380, (610) 344-6900, $2,000,000.

City of Pittsburgh, 414 Grant Street, Pittsburgh, PA 15219, (412) 255-6554, $1,500,000.

City of Reading, 815 Washington Street, Reading, PA 19601, (610) 655-6211, $1,100,000.

Rhode Island

City of East Providence, 145 Taunton Avenue, East Providence, RI 02924, (401) 435-7530, $2,000,000.

Utah

City of Orem, 56 North Street, Orem, UT, (801) 226-1521, $500,000.

Virginia

City of Norfolk, 810 Union Street, Rm. 1100, Norfolk, VA 23510, (757) 533-4685, $2,000,000.

Dated: December 10, 2002.
Roy Bernardi,
Assistant Secretary for Community , Planning and Development.

[FR Doc. 02-31545 Filed 12-13-02; 8:45 am]

BILLING CODE 4210-29-P